SECURITIES AND EXCHANGE COMMISSION

[Release No. 34-59273; File No. SR-FINRA-2008-067]

Self-Regulatory Organizations; Financial Industry Regulatory Authority, Inc.; Notice of Filing of Proposed Rule Change to Adopt Rules Governing Financial Responsibility in the Consolidated FINRA Rulebook

Correction

In notice document E9-1807 beginning on page 4992 in the issue of Wednesday, January 28, 2009 make the following correction:

On page 4992, in the third column, under the subject paragraph the date “January 22, 2009” should appear.

[FR Doc. Z9-1807 Filed 2-20-08; 8:45 am]

BILLING CODE 1505-01-D